FEDERAL COMMUNICATIONS COMMISSION

47 CFR Part 73

[MB Docket No. 07-91; FCC 07-228]

Third Periodic Review of the Commission's Rules and Policies Affecting the Conversion to Digital Television

AGENCY: Federal Communications Commission.

ACTION: Final rule; announcement of effective date.

SUMMARY: In this document, the Commission announces that the Office of Management and Budget (OMB) has approved, for a period of three years, the information collection(s) associated with section 73.682(d) of the rules. On January 30, 2008, the Commission established May 29, 2008 as the effective date for this rule—section 73.682(d)—in the summary document of the Report and Order, which was published in the Federal Register at 73 FR 5634. The Ordering Clause of the Report and Order stated that the Commission would publish a notice in the Federal Register announcing when OMB approval for this rule section has been received and when this rule will take effect. This notice is consistent with the statement in the Report and Order.

DATES: Effective May 29, 2008.

FOR FURTHER INFORMATION CONTACT: For additional information, please contact Evan Baranoff, Evan.Baranoff@fcc.gov, or Kim Matthews, Kim.Matthews@fcc.gov, of the Media Bureau, Policy Division, (202) 418-2120.

SUPPLEMENTARY INFORMATION: This document announces that, on March 4, 2008, OMB approved, for a period of three years, the information collection requirement contained in section 73.682(d) of the rules. The Commission publishes this notice as a second announcement of the effective date of the rules. If you have any comments on the burden estimates listed below, or how the Commission can improve the collections and reduce any burdens caused thereby, please contact Cathy Williams, Federal Communications Commission, Room 1-C823, 445 12th Street, SW., Washington, DC 20554. Please include the OMB Control Number, 3060-1104, in your correspondence. The Commission will also accept your comments via the Internet if you send them to PRA@fcc.gov.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the Commission is notifying the public that it received OMB approval on March 4, 2008, for the information collection requirement contained in the Commission's rules at 47 CFR 73.682(d). The OMB Control Number is 3060-1104. The total annual reporting burden for respondents for these collections of information, including the time for gathering and maintaining the collection of information, is estimated to be: 1,812 respondents, a total annual hourly burden of 47,112 hours, and there is no total annual cost burden associated with this information collection.

Under 5 CFR 1320, an agency may not conduct or sponsor a collection of information unless it displays a current, valid OMB Control Number.

No person shall be subject to any penalty for failing to comply with a collection of information subject to the Paperwork Reduction Act that does not display a valid OMB Control Number.

Federal Communications Commission.
Marlene H. Dortch,
Secretary.

[FR Doc. E8-11984 Filed 5-28-08; 8:45 am]

BILLING CODE 6712-01-P